DELAWARE RIVER BASIN COMMISSION

Notice of Commission Meeting and Public Hearing

Notice is hereby given that the Delaware River Basin Commission will hold an informal conference followed by a public hearing on Thursday, June 26, 2003. The hearing will be part of the Commission's regular business meeting. Both the conference session and business meeting are open to the public and will be held at the Commission's offices at 25 State Police Drive, West Trenton, New Jersey.

The conference among the commissioners and staff will begin at 9:30 a.m. Topics of discussion will include: an update on development of the Commission's new comprehensive plan, including a proposed resolution for implementation of the proposed Basin Plan and assessments by the states of how their current programs align with the proposed Basin Plan; a presentation by Janet Bowers of the Chester County Water Resources Authority on Watersheds, the Chester County watersheds management plan; an update on development of the TMDLs for PCBs in the Delaware Estuary; a report on formation of the PCB TMDL Implementation Advisory Committee (“IAC”), including proposed revision of Resolution No. 2001-11 authorizing formation of the IAC; a report of the Monitoring Advisory Committee; and a proposal to adopt a revised grade classification and compensation system and amend the Administrative Manual: By-Laws, Management and Personnel.

The subjects of the public hearing to be held during the 1 p.m. business meeting include, in addition to the dockets listed below, a proposed resolution to revise the Commission's fee schedule for the review of projects under Section 3.8 and Article 10 of the Delaware River Basin Compact and institute fees for docket transfers.

1. Exelon Generating Co., LLC D-69-210 CP, Final (Revision 11). A demonstration mine pool withdrawal project to supply up to 519 million gallons per 30 days (17.3 mgd) of augmentation flow to tributaries of the Schuylkill River for downstream withdrawal directly from the main stem Schuylkill River. Exelon proposes to modify its operations to establish criteria for utilization of mine pool water for periodic augmentation of the East Norwegian Creek, a tributary of the Schuylkill River, in accordance with an existing Pennsylvania Department of Environmental Protection National Pollutant Discharge Elimination System permit. The water will be pumped from the Wadesville Mine Pool on properties of the Reading Anthracite Company located in New Castle and Norwegian Townships and St. Clair Borough, Schuylkill County, Pennsylvania. Exelon Generating Co., LLC proposes to withdraw from the augmented flow of the Schuylkill River at its Limerick Generating Station (LGS) in Limerick Township, Montgomery County, Pennsylvania, approximately 72 river miles downstream of the augmentation source. The water will be used as an alternate source of cooling water make-up for the LGS nuclear powered generation facility. The withdrawal from the Schuylkill River at the LGS site is to proceed during times when natural low flow or temperature conditions in the Schuylkill River otherwise restrict Exelon from withdrawal, provided that augmentation of the flow precedes the withdrawal. The revised operations are projected to maintain a flow regime during withdrawal equivalent to the natural flow regime without the augmentation and withdrawal. The project is designed both to provide an alternate source of water to the LGS and to improve the water quality of mine pool drainage.

2. Borough of Westville D-79-86 CP Renewal. A ground water withdrawal renewal project to decrease withdrawal from 37.5 mg/30 days to 28.5 mg/30 days of water to the applicant's public water distribution system from Wells Nos. 4, 5 and 6 in the Potomac-Raritan-Magothy (PRM) aquifer. The project is located in Westville Borough, Gloucester County, New Jersey.

3. FiberMark North America, Inc. D-82-31 Renewal 3. A ground water withdrawal renewal project to increase withdrawal from 2.4 mg/30 days to 2.85 mg/30 days to supply the applicant's paper manufacturing facility from existing Well No. 1, and return non-contact cooling water to ground water via injection Well No. 2 in the Tohickon Creek Watershed. The project is located in Quakertown Borough, Bucks County, Pennsylvania and is located in the Southeastern Pennsylvania Ground Water Protected Area.

4. Town of Newton D-90-111 CP Renewal. A ground water withdrawal renewal project to continue withdrawal of 10.85 mg/30 days to supply the applicant's public water distribution system from existing Well No. PW-1 in the Kittatinny formation. The project is located in the Paulin's Kill Watershed in the Town of Newton, Sussex County, New Jersey.

5. South Whitehall Township Authority D-91-82 CP Renewal. A ground water withdrawal renewal project to continue withdrawal of 60 mg/30 days to supply the applicant's water distribution system from existing Wells Nos. 1, 2, 3, 5, 6, 9, 10, 11, 13, and 14 in the Cedar Creek and Jordan Creek Watersheds. The project is located in South Whitehall Township, Lehigh County, Pennsylvania.

6. Borough of Orwigsburg D-92-05 CP Renewal. A ground water withdrawal renewal project to continue withdrawal of 11.6 mg/30 days to supply the applicant's public water supply system from existing Wells Nos. 1, 2, 3, and 4 in the Mahannon Creek Watershed. The project is located in Orwigsburg Borough, Schuylkill County, Pennsylvania.

7. Mantua Township Municipal Utilities Authority D-2000-04 CP. A ground water withdrawal renewal project to supply up to 57 mg/30 days of water to the applicant's public water distribution system from existing Wells Nos. 2-8 in the Potomac-Raritan-Magothy and the Mt. Laurel-Wenonah Aquifers. Commission approval on September 19, 1996 was limited to 10 years and will expire unless renewed. The applicant requests that the total withdrawal from all wells be increased from 47 mg/30 days to 57 mg/30 days. The project is located in Mantua Township, Gloucester County, New Jersey.

8. Upper Hanover Municipal Authority D-2001-61 CP. A project to expand a 0.02 mgd STP to process 0.15 mgd while maintaining tertiary level of treatment. The project will continue to serve the predominantly residential area of Upper Hanover Township, Montgomery County, Pennsylvania, where the STP is located off the intersection of Frey and Buck Roads. STP effluent will be discharged to Macoby Creek in the Perkiomen Creek Watershed through the existing outfall.

9. Thornbury Township D-2003-04 CP. A project to expand a 0.12 million gallons per day Sewage Treatment Plant (STP) to process 0.18 mgd, while continuing to provide secondary treatment via an extended aeration activated sludge treatment process. The STP is located between Thornton and Cheyney Roads in Thornbury Township, Delaware County, Pennsylvania and will continue to serve the predominantly residential customers in that municipality. STP effluent will continue to be discharged to the non-tidal portion of Chester Creek via the existing force main.

10. Upper Saucon Sewage Treatment Authority D-2003-05 CP. A project to rerate a 2.0 million gallon per day (mgd) sewage treatment plant (STP) to process 2.5 mgd, while continuing to provide advanced secondary level of treatment via the A/O Process. The project is located just southwest of the intersection of Old Bethlehem Pike and Pennsylvania Route 78 in Upper Saucon Township, Lehigh County, Pennsylvania. The project will continue to serve the predominantly residential population of Coopersburg Borough and Upper Saucon Township. No new treatment facilities are proposed, and the plant will continue to discharge to Saucon Creek in the Lehigh River Watershed via the existing outfall.

11. City of Bordentown D-2003-11 CP. A ground water withdrawal project to provide up to 31.97 million gallons per 30 days of water to the applicant's public water supply system from New Well No. 5 and to retain the total combined allocation of 90 mg/30 days from all wells, Wells 1, 2, 3, and 5 (proposed). Well No. 5 is screened in the Raritan Formation and is located in the Crosswicks Creek Watershed in Hamilton Township, Mercer County, New Jersey. All wells will continue to serve the applicant's existing service area of the City of Bordentown, the Township of Bordentown, and via bulk water sale, the Borough of Fieldsboro, all in Burlington County, New Jersey.

In addition to the public hearing items, the Commission will address the following at its 1 p.m. business meeting: Minutes of the May 8, 2003 business meeting; announcements; a report on Basin hydrologic conditions; a report by the executive director; a report by the Commission's general counsel; a resolution amending Resolution No. 2001-11 concerning a TMDL Implementation Advisory Committee (“IAC”); a resolution adopting a revised grade classification and compensation system and amending the Administrative Manual: By-Laws, Management and Personnel; and a resolution providing for election of the Commission Chair, Vice Chair and Second Vice Chair for the year 2003-2004, commencing July 1, 2003.

Draft dockets scheduled for public hearing on June 26, 2003 are posted on the Commission's Web site, http://www.drbc.net, where they can be accessed through the Notice of Commission Meeting and Public Hearing. Additional documents relating to the dockets and other items may be examined at the Commission's offices. Please contact Thomas L. Brand at 609-883-9500 ext. 221 with any docket-related questions.

Persons wishing to testify at this hearing are requested to register in advance with the Commission Secretary at 609-883-9500 ext. 203. Individuals in need of an accommodation as provided for in the Americans with Disabilities Act who wish to attend the hearing should contact the Commission Secretary directly at 609-883-9500 ext. 203 or through the Telecommunications Relay Services (TRS) at 711, to discuss how the Commission may accommodate your needs.

Dated: June 9, 2003.
Christopher M. Roberts,
Public Information Officer.

[FR Doc. 03-15117 Filed 6-13-03; 8:45 am]

BILLING CODE 6360-01-P